DEPARTMENT OF VETERANS AFFAIRS

38 CFR Part 17

RIN 2900-AQ15

Case Management Services Grant Program

AGENCY: Department of Veterans Affairs.

ACTION: Interim final rule.

SUMMARY: The Department of Veterans Affairs (VA) is amending its regulations that govern programs benefitting homeless veterans to implement a new statutory requirement to establish a new grant program that will provide case management services to improve the retention of housing by veterans who were previously homeless and are transitioning to permanent housing and to veterans who are at risk of becoming homeless. The grant program established by this interim final rule will be an essential part of VA's attempts to eliminate homelessness among the veteran population.

DATES: This final rule is effective June 5, 2018. Comments must be received on or before August 6, 2018.

ADDRESSES: Written comments may be submitted through http://www.Regulations.gov; by mail or hand-delivery to: Director, Regulation Policy and Management (00REG), Department of Veterans Affairs, 810 Vermont Ave. NW, Room 1063B, Washington, DC 20420; or by fax to (202) 273-9026. (This is not a toll-free telephone number.) Comments should indicate that they are submitted in response to “RIN 2900-AQ15—Case Management Services Grant Program.” Copies of comments received will be available for public inspection in the Office of Regulation Policy and Management, Room 1063B, between the hours of 8 a.m. and 4:30 p.m., Monday through Friday (except holidays). Please call (202) 461-4902 for an appointment. (This is not a toll-free telephone number.) In addition, during the comment period, comments may be viewed online through the Federal Docket Management System (FDMS) at http://www.Regulations.gov.

FOR FURTHER INFORMATION CONTACT: Jeffery Quarles, Director, Grant and Per Diem Program, (10NC1HM), VA National Grant and Per Diem Program Office, 10770 N 46th Street, Suite C-200, Tampa, FL 33617, (877) 332-0334. (This is a toll-free number.)

SUPPLEMENTARY INFORMATION: In an effort to reduce homelessness in the veteran population, Congress has required VA to expand its benefits for homeless veterans by establishing a new grant program to provide funds to organizations within communities that will provide case management services to improve the retention of housing by veterans who were previously homeless and are transitioning to permanent housing and to veterans who are at risk of becoming homeless. See Public Law 114-315, sec. 712 (Dec. 16, 2016) (codified at 38 U.S.C. 2013). This interim final rule adds this new case management program to VA's Homeless Providers Grant and Per Diem Program regulations by adding a new subpart G to 38 CFR part 61 to accurately reflect these changes in law. The new case management program will mirror existing homeless grant per diem programs as much as possible for ease of administrating and running the new grant program.

61.90 Grant for Case Management Services—Program

Paragraph (a) of § 61.90 states that non-profit organizations and State, local, and tribal governments are eligible to apply for a grant to provide case management services. (For purposes of this program, the term “tribal government” means an entity described in paragraph (2) of the definition of public entity in 38 CFR 61.1.) To ensure that grant funding is used to provide case management services to as many veterans as possible, this same paragraph provides that case management services grant funds under this program “may not be used for veterans who are receiving case management services from permanent supportive housing programs (e.g. Housing and Urban Development-VA Supportive Housing) or rapid re-housing/homeless prevention programs (e.g. Supportive Services for Veterans Families (SSVF)).” Paragraph (b) identifies examples of case management services that grantees can provide using these grant funds. Such services include, but are not limited to, “Making home visits by the case manager to monitor housing stability; Providing or coordinating educational activities related to meal planning, tenant responsibilities, the use of public transportation, community resources, financial management, and the development of natural supports; Making referrals to needed services, such as mental health, substance use disorder, medical, and employment services; and Participating in case conferencing with other service providers who are working with the veteran.” Paragraph (c) sets a 6-month time limit for veterans to receive case management services. However, VA may approve a request to extend services beyond the 6-month period if an organization submits a request to VA in writing and VA approves it before the 6-month time limit expires. Because in most circumstances case management services are provided to veterans after they have been in receipt of benefits under the Grant and Per Diem Program, VA believes that 6 months would, in most cases, be sufficient time for a veteran to have the necessary tools in place to retain permanent housing.

61.92 Grant for Case Management Services—Application and Rating Criteria

For ease of administration and internal consistency between grant programs benefiting homeless veterans, VA will, to the extent applicable and appropriate, adopt standards for the new case management services grant program from its existing capital grants program. VA has successfully used the application package requirements and rating criteria for the capital grants program found in in §§ 61.12 and 61.13 for other grant programs. See §§ 61.32 and 61.41, We, therefore, adopt these requirements and rating criteria as relevant and slightly modified to meet the needs of the case management services grant program, expecting their use will render equally successful results here. Specifically, an applicant must submit an application package for case management services grants, which must:

• Be on the correct application form.

• Be completed in all parts, including all information requested in the Notice of Fund Availability (NOFA).

• Include a signed Application for Federal Assistance (SF 424) that contains the Employer Identification Number or Taxpayer Identification Number (EIN/TIN) that corresponds to the applicant's Internal Revenue Service (IRS) 501(c)(3) or (19) determination letter. Applicants that apply under a group EIN/TIN must be identified by the parent EIN/TIN as a member or sub-unit of the parent EIN/TIN and provide supporting documentation.

• Be received before the deadline specified by the NOFA.

In addition, the applicant must be an eligible entity at the time of application; the activities for which funding is requested must be eligible for funding under this subpart; the applicant must submit an application and agree to comply with the requirements of this subpart and demonstrate the capacity to do so; the applicant must not have any outstanding obligation to VA that is in arrears, or have an overdue or unsatisfactory response to an audit; and, the applicant must not have been notified by VA as being in default. If the applicant does not meet any one of these requirements, the application will be rejected without further consideration.

As to the rating criteria, the criteria in § 61.13 have been adopted and modified for purposes of this more narrow program, as listed in full in the regulatory text. So, an applicant under this program must receive at least 750 points out of a possible 1000 in order to be considered eligible to receive a grant for case management services. Generally speaking, VA will grant points as follows: Up to 400 points for project planning; up to 200 points for the applicant's ability to develop and operate a project; up to 150 points for the demonstration of a substantial unmet need for supportive services for formerly homeless veterans; up to 50 points based on the review panel's confidence that the applicant has effectively demonstrated that the grant can be completed as described in the application; and up to 200 points for demonstrating the applicant has coordinated with Federal, state, local, private and other entities serving homeless persons or persons at risk for homelessness in the planning and operation of the case management services project.

61.94 Grant for Case Management Services—Selection of Grantees

Section 61.94 describes the selection process for grants available under this subpart and sets out the priorities among applicants as established in the law. Public Law 114-315 mandates that VA give extra priority to organizations that voluntarily stop receiving amounts provided by the Secretary under sections 2012 and 2061 of title 38 and converts a facility that the organization used to provide transitional housing services into a facility that the organization uses to provide permanent housing that meets housing quality standards established under section 8(o)(8)(B) of the United States Housing Act of 1937 (42 U.S.C. 1437f(o)(8)(B)). This extra priority is provided for in paragraph (a)(1) of § 61.94. We would add that in order to obtain this extra priority, organizations must provide documentation showing that the permanent housing meets these housing quality standards. VA will thus award case management services grants first to applicants whose applications that meet the criteria of § 61.94(a)(1). The Public Law also states that VA shall give priority to organizations that demonstrate a capability to provide case management services . . . particularly organizations that are successfully providing or have successfully provided transitional housing services using amounts provided by the Secretary under sections 2012 and 2061 of title 38. We are stating this priority in paragraph (a)(2). So, once all applications described in the “extra priority” paragraph are awarded a grant, VA will award grants to those who qualify for priority under paragraph (a)(2). Paragraph (a)(3) provides that VA may also consider applications from other organizations without a Grant and Per Diem grant that seek to provide time limited case management services “to formerly homeless veterans who have exited VA transitional housing or other VA homeless residential treatment services to permanent housing.” In order to permit VA to rank applications for these grants within each priority, paragraph (b) will state that within each of the three priorities in paragraph (a), an application with more points using the rating criteria in § 61.92(b) will be given a higher priority for a grant award. Ranking applications within each priority would be needed if VA only has enough funds to award grants to some but not all applicants in one of the above priorities.

61.96 Grant for Case Management Services—Awards

Section 61.96 describes the award and funding process for grants available under this subpart and identifies permissible uses for the grant funds. Paragraph (a) states that funding for grants for case management services will be offered from the Grant and Per Diem Program budget and will be annually limited by VA's funding availability and commitments to existing programs. VA's aim is to alert potential applicants that yearly funding for the program may vary, which will be stated in the NOFA. Because the available funding for the grants for case management services is limited, paragraph (b) identifies the limited authorized uses of grant funds for costs associated with administrating these grants. Specifically, case management services grant funds may be used for the following administrative purposes: Providing funding for case management staff; providing transportation for the case manager; providing cell phones and computers to facilitate home visits and other case management activities associated with the grant; and, providing office furniture for the use of the case management staff. For all grants awarded under this section, VA will incorporate into the grant agreements the agreement and funding actions described in § 61.61, which currently apply to the Grant and Per Diem Program. This will help align operations for this new grant program with current Grant and Per Diem Program practices. Paragraph (c) therefore states that VA will execute an agreement and make payments to the grantee in accordance with the award and funding actions applicable to the Grant and Per Diem Program as described in § 61.61.

61.98 Grant for Case Management Services—Requirements and Oversight

Section 61.98 provides that VA will oversee grants to make certain that grantees operate their programs in accordance with the requirements of §§ 61.90 through 61.98. VA's oversight responsibilities include reviewing and responding to requests from grantees for extensions to the otherwise applicable maximum 6-month time limit. Further, this section states that grantees must also comply with the requirements of 38 CFR 61.65, 61.67(d), 61.67(e), and 61.80(c), (g), (h), (i), (n), (o), (p), and (q). Section 61.80 sets forth requirements for supportive housing and service centers for which assistance is provided under part 61. The assistance provided with case management services grants will not be for the construction, acquisition, renovation, or operation of supportive housing or service centers. We will thus not require grantees under this program to comply with those requirements in § 61.80 pertaining to housing and service centers. For example, VA will not require the housing in which the veterans who obtain services under this program reside to comply with the Life Safety code and state and local housing codes, licensing requirements, fire and safety requirements, or any other State of local requirements as would be otherwise imposed under § 61.80(a). We will also not require that supportive housing in which veterans who receive assistance under this program reside comply with the structural, space, and operational requirements in § 61.80(b) through (f), (m), and (r). We will not require compliance under this program with the requirements for service centers in § 61.80(k) and (l). Finally, we have addressed the requirements in § 61.80(j) by providing that VA may disapprove use of services provided by the grantee if VA determines that such services are of unacceptable quality in which case grant funds may not be used to pay for such services. VA lacks the authority to manage private or public entities and can only select grantees and oversee compliance with the terms of grant agreements consistent with §§ 61.90 through 61.98. VA similarly inspects and provides oversight to other Grant and Per Diem programs as a means to verify that grant funds and services are properly delivered by the grantee. As all transitional housing grants have some form of case management, we will apply the oversight requirements of 38 CFR part 61, subpart F, (in addition to those specifically listed above in § 61.80) as applicable, to grantees in the case management services program.

Administrative Procedure Act

In accordance with U.S.C. 553(b)(B) and (d)(3), the Secretary of Veterans Affairs has concluded that there is good cause to publish this rule without prior opportunity for public comment and to publish this rule with an immediate effective date. This final rule implements the mandates of section 712 of Public Law 114-315. Section 712 mandates that VA have regulations in place to implement this section no later than one year after the date of the enactment of the Public Law, which was December 16, 2017. One of VA's top priorities is the elimination of homelessness among the veteran population. This rule will, in support of this goal, provide veterans with case management services that will assist them in obtaining and maintaining permanent housing. This rule incorporates statutory requirements and complements the already existing Grant and Per Diem Program. The additional time associated with a public comment period would disadvantage and cause hardship to veterans who are in immediate or near-future need of the case management services available under this program (to avoid lapsing to a state of homelessness) and therefore would be contrary to the public interest. The Secretary finds that it is impracticable and contrary to the public interest to delay this rule for the purpose of soliciting advance public comment or to have a delayed effective date. For the above reason, the Secretary issues this rule as an interim final rule with an immediate effective date. VA will consider and address comments that are received within 60 days of the date this interim final rule is published in the Federal Register.

Effect of Rulemaking

Title 38 of the Code of Federal Regulations, as revised by this interim final rule, represents VA's implementation of its legal authority on this subject. Other than future amendments to this regulation or governing statutes, no contrary guidance or procedures are authorized. All existing or subsequent VA guidance must be read to conform with this rule if possible or, if not possible, such guidance is superseded by this rule.

Paperwork Reduction Act

This interim final rule includes a provision constituting a collection of information under the Paperwork Reduction Act of 1995 (44 U.S.C. 3501-3521) that requires approval by the Office of Management and Budget (OMB). Accordingly, under 44 U.S.C. 3507(d), VA has submitted a copy of this rulemaking to OMB for review.

OMB assigns control numbers to collections of information it approves. VA may not conduct or sponsor, and a person is not required to respond to, a collection of information unless it displays a currently valid OMB control number. Section 61.92 contains a collection of information under the Paperwork Reduction Act of 1995. If OMB does not approve the collection of information as requested, VA will immediately remove the provision containing a collection of information or take such other action as is directed by OMB.

Comments on the collection of information contained in this interim final rule should be submitted to the Office of Management and Budget, Attention: Desk Officer for the Department of Veterans Affairs, Office of Information and Regulatory Affairs, Washington, DC 20503, with copies sent by mail or hand delivery to the Director, Regulations Management (00REG), Department of Veterans Affairs, 810 Vermont Avenue NW, Room 1068, Washington, DC 20420; fax to (202) 273-9026; or through www.Regulations.gov. Comments should indicate that they are submitted in response to “RIN 2900-AQ15 Case Management Services Grant Program.”

OMB is required to make a decision concerning the collections of information contained in this interim final rule between 30 and 60 days after publication of this document in the Federal Register. Therefore, a comment to OMB is best assured of having its full effect if the comment is received within 30 days of publication. This does not affect the 60-day deadline for the public to comment on the interim final rule.

VA considers comments by the public on proposed collections of information in—

• Evaluating whether the proposed collections of information are necessary for the proper performance of the functions of VA, including whether the information will have practical utility;

• Evaluating the accuracy of VA's estimate of the burden of the proposed collections of information, including the validity of the methodology and assumptions used;

• Enhancing the quality, usefulness, and clarity of the information to be collected; and

• Minimizing the burden of the collections of information on those who are to respond, including through the use of appropriate automated, electronic, mechanical, or other technological collection techniques or other forms of information technology, e.g., permitting electronic submission of responses.

The collections of information contained in regulatory section 38 CFR 61.92 are described immediately following this paragraph, under their respective titles.

Title: Case Management Services Grant Program.

Summary of collection of information: Paragraph (a) requires that the applicant must meet the application requirements in this paragraph (a) or the application will be rejected and not considered further. Such documentation must be submitted to VA by the deadline established in the Notice of Fund Availability.

Description of the need for information and use of information: The information is needed to establish eligibility for a case management services grant.

Description of likely respondents: Non-profit organizations, State and local governments, or Tribal Indian governments who seek to receive a case management services grant.

Estimated number of respondents per month/year: 100.

Estimated frequency of responses per month/year: 1 time per year.

Estimated average burden per response: 35 minutes.

Estimated total annual reporting and recordkeeping burden: 58 hours.

Regulatory Flexibility Act

The Secretary hereby certifies that this final rule will not have a significant economic impact on a substantial number of small entities as they are defined in the Regulatory Flexibility Act, 5 U.S.C. 601-612. This final rule will only impact those entities that choose to participate and apply for a grant. Small entity applicants will not be affected to a greater extent than large entity applicants. Small entities must elect to participate, and it is considered a benefit to those who choose to apply. To the extent this final rule will have any impact on small entities, it will not have an impact on a substantial number of small entities. VA estimates that possibly up to 150 organizations will submit grant applications under this program and so be affected by this rule. The Secretary therefore certifies that the adoption of this final rule will not have a significant economic impact on a substantial number of small entities as they are defined in the Regulatory Flexibility Act, 5 U.S.C. 601-612. Therefore, pursuant to 5 U.S.C. 605(b), this rulemaking is exempt from the initial and final regulatory flexibility analysis requirements of 5 U.S.C. 603 and 604.

Executive Orders 12866, 13563 and 13771

Executive Orders 12866 and 13563 direct agencies to assess the costs and benefits of available regulatory alternatives and, when regulation is necessary, to select regulatory approaches that maximize net benefits (including potential economic, environmental, public health and safety effects, and other advantages; distributive impacts; and equity). Executive Order 13563 (Improving Regulation and Regulatory Review) emphasizes the importance of quantifying both costs and benefits, reducing costs, harmonizing rules, and promoting flexibility. Executive Order 12866 (Regulatory Planning and Review) defines a “significant regulatory action,” requiring review by OMB, unless OMB waives such review, as any regulatory action that is likely to result in a rule that may: (1) Have an annual effect on the economy of $100 million or more or adversely affect in a material way the economy, a sector of the economy, productivity, competition, jobs, the environment, public health or safety, or State, local, or tribal governments or communities; (2) Create a serious inconsistency or otherwise interfere with an action taken or planned by another agency; (3) Materially alter the budgetary impact of entitlements, grants, user fees, or loan programs or the rights and obligations of recipients thereof; or (4) Raise novel legal or policy issues arising out of legal mandates, the President's priorities, or the principles set forth in this Executive Order. The economic, interagency, budgetary, legal, and policy implications of this regulatory action have been examined, and it has been determined not to be a significant regulatory action under Executive Order 12866. VA's impact analysis can be found as a supporting document at http://www.regulations.gov, usually within 48 hours after the rulemaking document is published. Additionally, a copy of the rulemaking and its impact analysis are available on VA's website at http://www.va.gov/orpm/, by following the link for “VA Regulations Published From FY 2004 Through Fiscal Year to Date.” This rule is not an E.O. 13771 regulatory action because this rule is not significant under E.O. 12866.

Unfunded Mandates

The Unfunded Mandates Reform Act of 1995 requires, at 2 U.S.C. 1532, that agencies prepare an assessment of anticipated costs and benefits before issuing any rule that may result in the expenditure by State, local, and tribal governments, in the aggregate, or by the private sector, of $100 million or more (adjusted annually for inflation) in any one year. This interim final rule will have no such effect on State, local, and tribal governments, or the private sector.

Catalog of Federal Domestic Assistance

The Catalog of Federal Domestic Assistance program number and title for this interim final rule are as follows: 64.024 VA Homeless Providers Grant and Per Diem Program.

Signing Authority

The Secretary of Veterans Affairs, or designee, approved this document and authorized the undersigned to sign and submit the document to the Office of the Federal Register for publication electronically as an official document of the Department of Veterans Affairs. Jacquelyn Hayes-Byrd, Acting Chief of Staff, Department of Veterans Affairs, approved this document on May 31, 2018, for publication.

Dated: May 31, 2018.
Consuela Benjamin,
Regulation Development Coordinator, Office of Regulation Policy & Management, Office of the Secretary, Department of Veterans Affairs.

List of Subjects in 38 CFR Part 61

Administrative practice and procedure, Alcohol abuse, Alcoholism, Day care, Dental health, Drug abuse, Government contracts, Grant programs—health, Grant programs-veterans, Health care, Health facilities, Health professions, Health records, Homeless, Mental health programs, Reporting and recordkeeping requirements, Travel and transportation expenses, Veterans.

For the reasons set forth in the preamble, we are amending 38 CFR part 61 as follows:

PART 61—VA HOMELESS PROVIDERS GRANT AND PER DIEM PROGRAM

1. The authority citation for part 61 is revised to read as follows:

Authority: 38 U.S.C. 501, 2001, 2002, 2011, 2012, 2013, 2061, 2064.

2. Add subpart G to read as follows:

Subpart G—Case Management Services Grant Program
Sec.
61.90 Grant for case management services—program.
61.92 Grant for case management services—application and rating criteria.
61.94 Grant for case management services—selection of grantees.
61.96 Grant for case management services—awards.
61.98 Grant for case management services—requirements and oversight.

§ 61.90 Grant for case management services—program.

(a) General. VA may award grants for case management services to non-profit organizations and State, local and tribal governments for the provision of case management services to improve the retention of housing by veterans who were previously homeless and are transitioning to permanent housing and to veterans who are at risk of becoming homeless. (For purposes of this program, the term “tribal government” means an entity described in paragraph (2) of the definition of “public entity” in 38 CFR 61.1.) The goals of the grant program are: The maintenance of permanent housing by a veteran following discharge from homeless residential services, a reduction in recidivism, and an increase in exits to permanent housing. These grant funds may not be used for veterans who are receiving case management services from permanent supportive housing programs (e.g. Housing and Urban Development—VA Supportive Housing) or rapid re-housing/homeless prevention programs (e.g. Supportive Services for Veterans Families (SSVF)).

(b) Case management services. Case management services include, but are not limited to, the following:

(1) Making home visits by the case manager to monitor housing stability;

(2) Providing or coordinating educational activities related to meal planning, tenant responsibilities, the use of public transportation, community resources, financial management, and the development of natural supports;

(3) Making referrals to needed services, such as mental health, substance use disorder, medical, and employment services; and

(4) Participating in case conferencing with other service providers who are working with the veteran.

(c) Time limit. Case management services may be provided for a particular veteran for up to 6 months, unless VA receives and approves a written request for additional time before the 6-month time limit expires.

§ 61.92 Grant for case management services—application and rating criteria.

(a) General requirements. When funds are available for grants for case management services authorized under §§ 61.90 through 61.98, VA will publish a Notice of Fund Availability (NOFA) in the Federal Register in accordance with § 61.3. The applicant must meet all of the following requirements or the application will be rejected without further consideration:

(1) The applicant must submit an application and comply with the application requirements identified in the NOFA, e.g., complete all parts of the correct form and include all information requested in the NOFA.

(2) Include a signed Application for Federal Assistance (SF 424) that contains the applicant's Employer Identification Number or Taxpayer Identification Number (EIN/TIN). All non-profit applicants must provide their Internal Revenue Service 501(c)(3) or (19) determination letter, which includes the EIN/TIN contained in the application. Applicants that apply under a group EIN/TIN must be identified by the parent EIN/TIN as a member or sub-unit of the parent EIN/TIN and provide supporting documentation.

(3) The application must be received before the deadline established in the NOFA.

(4) The applicant must be a nonprofit organization or a State, local, or tribal government.

(5) The activities for which assistance is requested must be eligible for funding under §§ 61.90-61.98.

(6) The applicant must agree to comply with the requirements of §§ 61.90 through 61.98 and demonstrate the capacity to do so.

(7) The applicant must not have an outstanding obligation to VA that is in arrears, or have an overdue or unsatisfactory response to an audit.

(8) The applicant must not have been notified by VA as being in default.

(b) Rating criteria. To be eligible for a case management grant, an applicant must receive at least 750 points (out of a possible 1000) and must receive points under paragraphs (c) through (f) of this section.

(c) Project plan. VA will award up to 400 points based on the demonstration and quality of the following:

(1) The process used for deciding which veterans are referred and accepted for case management services.

(2) How, when, and by whom the progress of participants who are receiving case management services toward meeting their individual goals will be monitored, evaluated, and documented. This monitoring includes, but is not limited to, a description of how home visits would be provided and the general purpose and frequency anticipated of the home visits.

(3) How the participant's system of natural supports would be assessed and developed.

(4) How crisis intervention services will be coordinated, as needed, to promote the maintenance of permanent housing, access to medical care, mental health or substance use disorder treatment.

(5) How the applicant will provide education to case management participants, as needed, in the areas of tenant rights and responsibilities, rental/lease agreements, landlords rights and responsibilities, and budgeting.

(6) How case management services will be phased out.

(d) Ability of the applicant to develop and operate a project. VA will award up to 200 points based on the extent to which the applicant demonstrates the necessary staff and organizational experience to develop and operate the proposed project, based on the following:

(1) Staffing plan for the project that reflects the appropriate professional staff, both administrative and clinical;

(2) Experience of staff, or if staff is not yet hired, position descriptions and expectations of time to hire;

(3) Applicant's previous experience assessing and providing for the housing needs of formerly homeless veterans;

(4) Applicant's previous experience in providing case management services to assist persons in maintaining permanent housing;

(5) Applicant's previous experience in coordinating crisis intervention services, including medical, mental health, and substance use disorder services.

(6) Applicant's experience in working with local landlords as part of providing housing support services.

(7) Historical documentation of past performance both with VA and non-VA projects, including those from other Federal, state and local agencies, and audits by private or public entities.

(e) Need. VA will award up to 150 points based on the extent to which the applicant demonstrates:

(1) Substantial unmet need for formerly homeless veterans who have exited homeless transitional housing or residential services and are in need of time limited case management to maintain permanent housing. Demonstration of need must be based on reliable data from reports or other data gathering systems that directly support claims made; and

(2) An understanding of the formerly homeless population to be served and its supportive service needs.

(f) Completion confidence. VA will award up to 50 points based on the review panel's confidence that the applicant has effectively demonstrated the case management services project will be completed as described in the application. VA may use historical program documents demonstrating the applicant's past performance, including those from other Federal, state and local agencies, as well as audits by private or public entities in determining confidence scores.

(g) Coordination with other programs. VA will award up to 200 points based on the extent to which the applicant demonstrates that it has coordinated with Federal, state, local, private, and other entities serving homeless persons or persons at risk for homelessness in the planning and operation of the case management services project. Such entities include, but are not limited to, shelters, transitional housing, Public Housing Authorities, health care or social service providers, providers funded through Federal initiatives, local planning coalitions or provider associations, or other program providers relevant to the needs of formerly homeless veterans in the local community. Applicants are required to demonstrate that they have coordinated with the VA medical facility of jurisdiction or VA regional office of jurisdiction in their area. VA will award up to 50 points of the 200 points based on the extent to which commitments to provide supportive services are documented at the time of application. Up to 150 points of the 200 points will be given to the extent applicants demonstrate that:

(1) They are part of an ongoing community-wide planning process within the framework described in this section, which is designed to share information on available resources and reduce duplication among programs that serve homeless veterans (e.g. Continuum of Care);

(2) They have consulted directly with the closest VA medical facility and other providers within the framework described in this section regarding coordination of services for project participants; and

(3) They have coordinated with the closest VA medical facility their plan to assure access to health care, case management, and other care services.

(Approved by the Office of Management and Budget under control number 2900-XXXX.)

§ 61.94 Grant for case management services—selection of grantees.

(a) Award priority. Grants for case management services will be awarded in order of priority as follows:

(1) VA will give extra priority to grants for case management services to applications from operational Grant and Per Diem funded organizations that have given up per diem or special need funding and converted their transitional housing to permanent housing. In order to obtain this extra priority, organizations must provide documentation showing that their permanent housing meets the quality housing standards established under section 8(o)(8)(B) of the United States Housing Act of 1937 (42 U.S.C. 1437f(o)(8)(B)).

(2) VA will give priority to applications from organizations that demonstrate a capability to provide case management services, particularly organizations that are successfully providing or have successfully provided transitional housing services using grants provided by VA under 38 U.S.C. 2012 and 2061.

(3) Applications from other organizations without a Grant and Per Diem grant that seek to provide time limited case management to formerly homeless veterans who have exited VA transitional housing or other VA homeless residential treatment services to permanent housing.

(b) Higher award priority. Within each of the three priorities in paragraph (a) of this section, an application with more points using the rating criteria in § 61.92(b) will be given a higher priority for a grant award.

§ 61.96 Grant for case management services—awards.

(a) Funding. Grants for case management services will be offered from the current Grant and Per Diem Program budget and will be limited annually by VA's funding availability and commitments to existing programs.

(b) Use of grant funds for administrative costs. Grant funds may be used for the following administrative purposes

(1) Case management staff;

(2) Transportation for the case manager;

(3) Cell phones and computers to facilitate home visits and other case management activities associated with the grant; and

(4) Office furniture for the use of the case management staff.

(c) Awards. VA will execute an agreement and make payments to the grantee in accordance with the award and funding actions applicable to the Grant and Per Diem Program as described in § 61.61.

§ 61.98 Grant for case management services—requirements and oversight.

VA will oversee grants for case management services to ensure that each grantee operates its program in accordance with §§ 61.90 through 61.98. VA's oversight responsibilities include reviewing and responding to requests from grantees for extensions to the otherwise applicable maximum 6-month time limit. Grantees must also comply with the requirements of 38 CFR 61.65; 61.67(d) and 61.67(e); and 61.80(c), (g), (h), (i), (n), (o), (p), and (q). VA may disapprove of case management services provided by the grantee if VA determines that they are of unacceptable quality in which case grant funds may not be used to pay for them.

[FR Doc. 2018-12048 Filed 6-4-18; 8:45 am]

BILLING CODE 8320-01-P